DEPARTMENT OF ENERGY

Federal Energy Regulatory Commission

Notice of Designation of Commission Staff as Non-Decisional

Under Section 319 of the Federal Power Act, 16 U.S.C. 825q-1, the primary mission of the Commission's Office of Public Participation (“OPP”) is to coordinate assistance to the public with respect to authorities exercised by the Commission. The Director shall also coordinate assistance available to persons intervening or participating or proposing to intervene or participate in proceedings before the Commission.

In furtherance of this mission, each employee of the Office of Public Participation (OPP) is being designated as a non-decisional employee of the Commission effective on the day of this notice. As such, pursuant to 18 CFR 385.2202 (2021), no OPP employee shall participate or advise as to the findings, conclusion or decision of the Commission in a proceeding covered by such rule. OPP staff will not be involved in such Commission decisional processes and will not advocate positions or conduct investigations for the Commission.

Given the non-decisional status of each OPP employee as stated herein, communications between employees of OPP and parties or members of the public as to the merits of a contested on-the-record proceeding will not constitute ex parte communications, 18 CFR 385.2201 (2021). However, no OPP employee may share the contents of such communications with any decisional employee of the Commission, unless an established regulatory exception applies.

This designation will remain in effect until withdrawn or modified by a subsequent notice.

Dated: May 20, 2022.
Kimberly D. Bose,
Secretary.

[FR Doc. 2022-11331 Filed 5-25-22; 8:45 am]

BILLING CODE 6717-01-P